DEPARTMENT OF DEFENSE

GENERAL SERVICES ADMINISTRATION

NATIONAL AERONAUTICS AND SPACE ADMINISTRATION

[OMB Control No. 9000-0142; Docket No. 2021-0053; Sequence No. 4]

Submission for OMB Review; Past Performance Information

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding past performance information.

DATES: Submit comments on or before May 24, 2021

ADDRESSES: Written comments and recommendations for this information collection should be sent within 30 days of publication of this notice to www.reginfo.gov/public/do/PRAMain. Find this particular information collection by selecting “Currently under Review—Open for Public Comments” or by using the search function.

Additionally, submit a copy to GSA through http://www.regulations.gov and follow the instructions on the site. This website provides the ability to type short comments directly into the comment field or attach a file for lengthier comments.

Instructions: All items submitted must cite OMB Control No. 9000-0142, Past Performance Information. Comments received generally will be posted without change to http://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and Any Associated Form(s)

9000-0142, Past Performance Information.

B. Need and Uses

This clearance covers the information that offerors and contractors must submit to comply with the following Federal Acquisition Regulation (FAR) requirements: Preaward. For responses during source selection.

• FAR 15.305(a)(2)(ii). This section requires solicitations describe the approach for evaluating past performance, including evaluating offerors with no relevant performance history, and providing offerors an opportunity to identify past or current contracts (including Federal, State, and local government and private) for efforts similar to the Government requirement. Solicitations also must authorize offerors to provide information on problems encountered on their identified contracts and the offeror corrective actions. Per FAR 15.304(c)(3), past performance must be evaluated in all source selections for negotiated competitive acquisitions expected to exceed the simplified acquisition threshold (SAT) unless the contracting officer documents the reason past performance is not an appropriate evaluation factor for the acquisition.

• FAR 52.212-1, Instructions to Offerors—Commercial Items. This provision requires offerors, per paragraph (b)(10), to submit past performance information, when included as an evaluation factor, to include recent and relevant contracts for the same or similar items and other references (including contract numbers, points of contact with telephone numbers and other relevant information).

Postaward. For responses in the Contractor Performance Assessment Reporting System (CPARS).

• FAR 42.1503(d). Requires contractors be afforded up to 14 calendar days from the notification date that a past performance evaluation has been entered into CPARS to submit comments, rebutting statements, or additional information. Past performance information is relevant information regarding a contractor's actions under previously awarded contracts or orders, for future source selection purposes. Source selection officials may obtain past performance information from a variety of sources.

The contracting officer will use the information to support future source selection decisions.

C. Annual Burden

Respondents: 65,373.

Total Annual Responses: 83,262.

Total Burden Hours: 166,524.

D. Public Comment

A 60-day notice was published in the Federal Register at 86 FR 8913, on February 10, 2021. One respondent submitted comments; however, they did not change the estimate of the burden.

Comment: The commenter expressed there is a need for a revision to the practices of acquiring, analyzing, and utilizing past performance information for source selection in federal acquisitions. The commenter noted that “there have emerged in recent years a number of issues that result in a misleading, incomplete, deceptive, or distorted assessment of an Offeror's Past Performance that is not allowing fair competition for contracts which evaluate this factor.” The commenter suggested changes on a few areas by using examples.

Response: Some of the suggestions made by the commenter may require consideration via the rulemaking process, and other suggestions refer to practices by particular agencies. These suggestions are outside the scope of this information collection renewal. The commenter did not express an opinion on whether the collections of information are needed; whether the estimated number of burden hours is accurate; or ways to minimize the burden of the collection of information. Therefore, the estimate of the burden was not changed.

Obtaining Copies: Requesters may obtain a copy of the information collection documents from the GSA Regulatory Secretariat Division by calling 202-501-4755 or emailing GSARegSec@gsa.gov. Please cite OMB Control No. 9000-0142, Past Performance Information.

Janet Fry,
Director, Federal Acquisition Policy Division, Office of Governmentwide Acquisition Policy, Office of Acquisition Policy, Office of Governmentwide Policy.

[FR Doc. 2021-08409 Filed 4-22-21; 8:45 am]

BILLING CODE 6820-EP-P